AFRICAN DEVELOPMENT FOUNDATION

Sunshine Act Meeting

TIME: 1:00 p.m. to 3:00 p.m.

PLACE: ADF Headquarters.

DATE: Tuesday, 27 June 2000.

STATUS: Open.

Agenda

1:00 p.m. Chairman's Report

1:30 p.m. President's Report

2:30 p.m. New Business

3:00 p.m. Adjournment

If you have any questions or comments, please direct them to Dick Day, Coordinator, Office of Policy, Planning and Outreach, who can be reached at (202) 673-3916.

William R. Ford,
President.

[FR Doc. 00-16201 Filed 6-22-00; 2:17 pm]

BILLING CODE 6116-01-P